OVERSEAS PRIVATE INVESTMENT CORPORATION

Sunshine Act Meeting Notice

TIME AND DATE: Thursday, June 14, 2017, 2 p.m. (OPEN Portion), 2:15 p.m. (CLOSED Portion).

PLACE: Offices of the Corporation, Twelfth Floor Board Room, 1100 New York Avenue NW, Washington, DC.

STATUS: Meeting OPEN to the Public from 2 p.m. to 2:15 p.m., Closed portion will commence at 2:15 p.m. (approx.).

MATTERS TO BE CONSIDERED:

1. President's Report

2. Minutes of the Open Session of the December 14, 2017, Board of Directors Meeting

FURTHER MATTERS TO BE CONSIDERED (Closed to the Public 2:15 p.m.):

1. Finance Project—Africa Regional

2. Finance Project—India

3. Finance Project—India

4. Finance Project—Central America

5. Finance Project—Africa Regional

6. Insurance Project—Ukraine

7. Finance Project—Latin America

8. Finance Project—Brazil

9. Finance Project—Colombia

10. Finance Project—El Salvador and Costa Rica

11. Finance Project—India

12. Minutes of the Closed Session of the December 14, 2017, Board of Directors Meeting

13. Reports

14. Pending Projects

CONTACT PERSON FOR MORE INFORMATION: Information on the meeting may be obtained from Catherine F. I. Andrade at (202) 336-8768, or via email at Catherine.Andrade@opic.gov.

Dated: May 23, 2018.
Catherine Andrade,
Corporate Secretary, Overseas Private Investment Corporation.

[FR Doc. 2018-11376 Filed 5-23-18; 11:15 am]

BILLING CODE 3210-01-P